DEPARTMENT OF LABOR

Employment and Training Administration

[TA-W-38,344]

Rockwell Automation Department 255, Milwaukee, WI, Notice of Termination of Investigation

Pursuant to section 221 of the Trade Act of 1974, an investigation was initiated on November 20, 2000, in response to a worker petition which was filed by the International Union of Electronic, Electrical, Salaried, Machine and Furniture Workers, Local 1111, on behalf of workers at Rockwell Automation, Milwaukee, Wisconsin.

An active certification covering the petitioning group of workers at the subject firm remains in effect (TA-W-35,304). Consequently, further investigation in this case would serve no purpose, and the investigation has been terminated.

Signed in Washington, DC this 6th day of March, 2001.
Linda G. Poole,
Certifying Officer, Division of Trade Adjustment Assistance.

[FR Doc. 01-6965 Filed 3-20-01; 8:45 am]

BILLING CODE 4510-30-M